DEPARTMENT OF TRANSPORTATION

Federal Aviation Administration

14 CFR Part 71

[Docket No. FAA-2022-1424; Airspace Docket No. 22-AEA-11]

RIN 2120-AA66

Amendment of VOR Federal Airways V-268 and V-474, Revocation of Jet Route J-518 and VOR Federal Airway V-119, and Establishment of Area Navigation Route Q-178 in the Vicinity of Indian Head, PA

AGENCY: Federal Aviation Administration (FAA), DOT.

ACTION: Final rule; correction.

SUMMARY: This action corrects a final rule published by the FAA in the Federal Register on March 27, 2023, that amended Very High Frequency (VHF) Omnidirectional Range (VOR) Federal airways V-268 and V-474, revoked Jet Route J-518 and VOR Federal airway V-119, and established Area Navigation (RNAV) route Q-178. In the final rule, one of the two categorical exclusion references listed in the Environmental Review section of the preamble was incorrect. The final rule Environmental Review section referenced categorical exclusions pursuant to FAA Order 1050.1F, Environmental Impacts: Policies and Procedures, paragraphs 5-6.5a and 5-6.5k, in error. The correct categorical exclusion references are FAA Order 1050.1F, paragraphs 5-6.5a and 5-6.5i. This action corrects that error.

DATES: Effective date 0901 UTC, June 15, 2023. The Director of the Federal Register approves this incorporation by reference action under 1 CFR part 51, subject to the annual revision of FAA Order JO 7400.11 and publication of conforming amendments.

ADDRESSES: A copy of the Notice of Proposed Rulemaking (NPRM), all comments received, the final rule, this final rule correction, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

History

The FAA published a final rule for Docket No. FAA-2022-1424 in the Federal Register (88 FR 18026; March 27, 2023), amending VOR Federal airways V-268 and V-474, revoking Jet Route J-518 and VOR Federal airway V-119, and establishing RNAV route Q-178 due to the planned decommissioning of the VOR portion of the Indian Head, PA, VOR/Tactical Air Navigation (VORTAC) navigational aid (NAVAID). Subsequent to publication, the FAA determined that the environmental review categorical exclusion references listed in the preamble were incorrect. The final rule Environmental Review section in the preamble listed FAA Order 1050.1F, paragraphs 5-6.5a and 5-6.5k as the supporting categorical exclusion references; however, upon further review, the FAA determined the references should be FAA Order 1050.1F, paragraphs 5-6.5a and 5-6.5i. This rule corrects the preamble discussion of the categorical exclusion references listed in the Environmental Review section of the final rule.

This action does not alter the alignment of the amended, revoked, or established Air Traffic Service (ATS) routes listed in the final rule.

Correction to Final Rule

Accordingly, pursuant to the authority delegated to me, the first sentence in the Environmental Review section contained in the preamble in Docket No. FAA-2022-1424, as published in the Federal Register of March 27, 2023 (88 FR 18026), FR Doc. 2023-06101, is corrected as follows:

1. In FR Doc. 2023-06101, appearing on page 18027, in the second and third columns, replace the first sentence in the Environmental Review section to read,

“The FAA has determined that this action of amending VOR Federal airways V-268 and V-474, revoking Jet Route J-518 and VOR Federal airway V-119, and establishing RNAV route Q-178, due to the planned decommissioning of the VOR portion of the Indian Head, PA, VORTAC NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5i, which categorically excludes from further environment impact review the establishment of new or revised air traffic control procedures conducted at 3,000 feet or more above ground level (AGL); procedures conducted below 3,000 feet AGL that do not cause traffic to be routinely routed over noise sensitive areas; modifications to currently approved procedures conducted below 3,000 feet AGL that do not significantly increase noise over noise sensitive areas; and increases in minimum altitudes and landing minima. For modifications to air traffic procedures at or above 3,000 feet AGL, the Noise Screening Tool (NST) or other FAA-approved environmental screening methodology should be applied.”

Issued in Washington, DC, on April 3, 2023.
Brian Konie,
Acting Manager, Airspace Rules and Regulations.

[FR Doc. 2023-07240 Filed 4-7-23; 8:45 am]

BILLING CODE 4910-13-P